DEPARTMENT OF TRANSPORTATION

Federal Aviation Administration

14 CFR Part 39

[Docket No. FAA-2008-1242; Directorate Identifier 96-SW-13-AD; Amendment 39-16511; AD 96-18-05 R1]

RIN 2120-AA64

Airworthiness Directives; Bell Helicopter Textron Canada Model 206L, 206L-1, and 206L-3 Helicopters

AGENCY: Federal Aviation Administration, DOT.

ACTION: Final rule.

SUMMARY: This amendment revises an existing airworthiness directive (AD) for Bell Helicopter Textron Canada (BHTC) Model 206L, 206L-1, and 206L-3 helicopters with a certain part numbered tailboom installed, that currently requires a visual inspection of the tailboom skin in the areas around the nutplates and in the areas of the tailboom drive shaft cover retention clips for cracks and corrosion using a 10-power or higher magnifying glass until the tailboom is replaced with an airworthy tailboom. This action requires the same actions as the existing AD, but allows a longer interval for the repetitive inspections if the tailboom is modified to increase its structural integrity. Replacement with an airworthy tailboom other than a part-numbered tailboom affected by this amendment constitutes a terminating action for the requirements of this AD. This amendment is prompted by an accident and several reports of fatigue cracks in the tailboom skin in the areas around the nutplates for the tail rotor fairing and in the areas of the tail rotor drive shaft cover retention clips. The actions required by this AD are intended to prevent failure of the tailboom and subsequent loss of control of the helicopter.

DATES: Effective December 21, 2010.

As of September 16, 1996 (61 FR 45876, August 30, 1996), the Director of the Federal Register approved the incorporation by reference of Bell Helicopter Textron Inc. Alert Service Bulletin 206L-87-47, Revision C, dated October 23, 1989, listed in this AD.

ADDRESSES: You may get the service information identified in this AD from Bell Helicopter Textron Canada, 12,800 Rue de l'Avenir, Mirabel, Quebec J7J1R4, telephone (450) 437-2862 or (800) 363-8023, fax (450) 433-0272, or at http://www.bellcustomer.com/files/.

Examining the Docket: You may examine the docket that contains this AD, any comments, and other information on the Internet at http://www.regulations.gov, or at the Docket Operations office, West Building Ground Floor, Room W12-140, 1200 New Jersey Avenue, SE., Washington, DC.

FOR FURTHER INFORMATION CONTACT: DOT/FAA Southwest Region, Sharon Miles, ASW-111, Aviation Safety Engineer, Rotorcraft Directorate, Regulations and Policy Group, 2601 Meacham Blvd., Fort Worth, Texas 76137, telephone (817) 222-5122, fax (817) 222-5961.

SUPPLEMENTARY INFORMATION: A proposal to amend 14 CFR part 39 by revising AD 96-18-05, Amendment 39-9729 (61 FR 45876, August 30, 1996), for the specified BHTC Model 206L, 206L-1, and 206L-3 helicopters, with tailboom, part number (P/N) 206-033-004-003, -011, -045, or -103, installed, was published in the Federal Register on November 26, 2008 (73 FR 71955). The action proposed to require before further flight, unless accomplished previously, a visual inspection of the tailboom skin for cracks and corrosion in the areas around the nutplates for the tail rotor fairing and in the areas of the tailboom drive shaft cover retention clips using a 10-power or higher magnifying glass. The action also proposed to require the inspections repetitively at intervals not to exceed 100 hours time-in-service (TIS) for helicopters that have been modified to increase the structural integrity of the tailboom in accordance with Bell Helicopter Textron Alert Service Bulletin No. 206L-87-47, Revision C, dated October 23, 1989 (ASB). For helicopters that have not been modified in accordance with the ASB, we proposed to require repetitive inspections at intervals not to exceed 50-hours TIS. That action also proposed a terminating action for the repetitive inspection requirements by replacing an affected tailboom with an airworthy tailboom, P/N 206-033-004-143 or -177. That action was prompted by an accident and several reports of fatigue cracks in the tailboom skin in the areas around the nutplates for the tail rotor fairing, and in the areas of the tail rotor drive shaft cover retention clips.

Transport Canada, the airworthiness authority for Canada, notified the FAA that an unsafe condition may exist on BHTC Model 206L, 206L-1, and 206L-3 helicopters. Transport Canada advises that there has been one accident and several reports of fatigue cracks in the tailboom skin in the areas around the nutplates for the tail rotor fairing, and in the areas of the tail rotor drive shaft cover retention clips.

This helicopter model is manufactured in Canada and is type certificated for operation in the United States under the provisions of 14 CFR 21.29 and the applicable bilateral agreement. When AD 96-18-05 was issued, the type certificate for these affected model helicopters was in the U.S. and the FAA had oversight responsibility for these model helicopters. Transport Canada issued an AD following the FAA AD, except that Transport Canada required modifying the tailboom in accordance with the ASB and increasing the inspection interval to 100 hours TIS. Subsequently, these type certificates were transferred to Canada.

Interested persons have been afforded an opportunity to participate in the making of this amendment. No comments were received on the proposal or the FAA's determination of the cost to the public. The FAA has determined that air safety and the public interest require the adoption of the rule as proposed with only minor, non-substantive changes.

We estimate that this AD will affect 551 helicopters of U.S. registry. We also estimate that it will take about 0.8 work hour to inspect and 8 work hours per helicopter to modify a helicopter, at an average labor rate of $85 per work hour. If a helicopter is modified to increase the inspection intervals, required parts will cost approximately $385. Based on these figures, we estimate the total cost impact of the AD on U.S. operators to be $423,168 per year, assuming all the helicopters are unmodified and twelve 50-hour TIS inspections per helicopter. If we assume that all helicopters are modified at the beginning of the year, the cost impact of the AD on U.S. operators will be $776,359 for the first year, assuming there are six 100-hour TIS inspections the first year, and $211,584 for each year thereafter.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-9729 (61 FR 45876, August 30, 1996), and by adding a new airworthiness directive (AD), to read as follows:

96-18-05 R1 Bell Helicopter Textron Canada: Amendment 39-16511. Docket No. FAA-2008-1242; Directorate Identifier 96-SW-13-AD. Revises AD 96-18-05, Amendment 39-9729.

Applicability: Model 206L, 206L-1, and 206L-3 helicopters, with tailboom, part number (P/N) 206-033-004-003, -011, -45, -045, or -103, installed, certificated in any category.

Compliance: Required as indicated.

To prevent failure of the tailboom and subsequent loss of control of the helicopter, accomplish the following:

(a) Before further flight, unless accomplished previously, using a 10-power or higher magnifying glass, inspect the tailboom for cracks or corrosion in accordance with the Accomplishment Instructions, Part II, steps (1) through (7), of Bell Helicopter Textron Alert Service Bulletin No. 206L-87-47, Revision C, dated October 23, 1989 (ASB).

(b) For a tailboom that has not been modified in accordance with the Accomplishment Instructions, Part I of the ASB, using a 10-power or higher magnifying glass, inspect the tailboom for a crack at intervals not to exceed 50 hours time-in-service (TIS) in accordance with the Accomplishment Instructions, Part II, steps (1) through (7), of the ASB.

(c) For a tailboom that has been modified in accordance with the Accomplishment Instructions, Part I of the ASB, using a 10-power or higher magnifying glass, inspect the tailboom for a crack or corrosion at intervals not to exceed 100 hours TIS in accordance with the Accomplishment Instructions, Part II and Part III of the ASB, except you are not required to contact the manufacturer.

(d) If a crack or corrosion is detected that is beyond the repairable limits stated in the applicable maintenance manual, remove the tailboom and replace it with an airworthy tailboom.

(e) Replacing the tailboom with a tailboom, P/N 206-033-004-143 or -177, or an airworthy part-numbered tailboom that is not listed in the Applicability section of this AD, constitutes a terminating action for the requirements of this AD.

(f) To request a different method of compliance or a different compliance time for this AD, follow the procedures in 14 CFR 39.19. Contact the Manager, Safety Management Group, FAA, ATTN: DOT/FAA Southwest Region, Sharon Miles, Aviation Safety Engineer, ASW-111, Rotorcraft Directorate, Regulations and Policy Group, 2601 Meacham Blvd., Fort Worth, Texas 76137, telephone (817) 222-5122, fax (817) 222-5961, for information about previously approved alternative methods of compliance.

(g) Special flight permits will not be issued.

(h) You must use Bell Helicopter Textron Inc. Alert Service Bulletin 206L-87-47, Revision C, dated October 23, 1989, to do the actions required by this AD, unless the AD specifies otherwise.

(1) On September 16, 1996 (61 FR 45876, August 30, 1996), the Director of the Federal Register previously approved the incorporation by reference of Bell Helicopter Textron Inc. Alert Service Bulletin 206L-87-47, Revision C, dated October 23, 1989.

(2) For service information identified in this AD, contact Bell Helicopter Textron Canada, 12,800 Rue de l'Avenir, Mirabel, Quebec J7J1R4, telephone (450) 437-2862 or (800) 363-8023, fax (450) 433-0272, or at http://www.bellcustomer.com/files/.

(3) You may review copies of the service information incorporated by reference for this AD at the FAA, Office of the Regional Counsel, Southwest Region, 2601 Meacham Blvd., Room 663, Fort Worth, Texas.

(4) You may also review copies of the service information incorporated by reference for this AD at the National Archives and Records Administration (NARA). For information on the availability of this material at NARA, call (202) 741-6030, or go to: http://www.archives.gov/federal_register/code_of_federal_regulations/ibr_locations.html.

(i) This amendment becomes effective on December 21, 2010.

Issued in Fort Worth, Texas, on October 26, 2010.
Lance T. Gant,
Acting Manager, Rotorcraft Directorate, Aircraft Certification Service.

[FR Doc. 2010-28470 Filed 11-15-10; 8:45 am]

BILLING CODE 4910-13-P